Title 3—

The President

Proclamation 9623 of June 14, 2017

Flag Day and National Flag Week, 2017

By the President of the United States of America

A Proclamation

On Flag Day, we honor the symbol that reminds us that we are one Nation under God, united in our pursuit of liberty and justice for all. Today, we celebrate and recognize June 14 as the day in 1777 when the Continental Congress formally adopted the Stars and Stripes as the official flag of the Republic.

Our flag is a source of inspiration and strength to all Americans. Wherever Old Glory flies, we remember the six United States Marines raising the flag atop Mount Suribachi during the Battle of Iwo Jima, astronauts Neil Armstrong and Buzz Aldrin planting it on the surface of the moon, and our firefighters elevating it above Ground Zero following the terrorist attacks of September 11. At the White House, at our homes, churches, offices, and schools, in our town squares and military installations at home and abroad, our flag celebrates our independence and highlights our resolve to defend and protect the country and the values that we hold dear.

By honoring our flag, we pay due respect to the patriots and heroes who have laid down their lives in defense of the liberty it represents. As we raise the flag, we stand and salute or place our hands on our hearts, and we recall the fundamental truths upon which this Nation was founded: that we are all created equal and that just government derives its power from the people.

I am blessed to have shared my birthday with the Star Spangled Banner and the U.S. Army for 71 years now. Again, on Flag Day, I am deeply grateful to live under the red, white, and blue, and all for which it stands.

To commemorate the adoption of our flag, in 1949, the Congress requested the President recognize, by proclamation, that June 14 is “Flag Day” and requested the American flag be displayed on all Federal Government buildings. The Congress also requested, in 1966, that the President annually issue a proclamation designating the week in which June 14 occurs as “National Flag Week” and call upon citizens of the United States to display the flag during that week.

NOW, THEREFORE, I, DONALD J. TRUMP, President of the United States of America, do hereby proclaim June 14, 2017, as Flag Day, and this week as National Flag Week. I direct the appropriate officials to display the flag on all Federal Government buildings during this week, and I urge all Americans to observe Flag Day and National Flag Week by displaying the flag. I also encourage the people of the United States to observe with pride and all due ceremony those days from Flag Day through Independence Day, set aside by the Congress (89 Stat. 211), as a time to honor America, to celebrate our heritage in public gatherings and activities, and to publicly recite the Pledge of Allegiance to the Flag of the United States of America.

IN WITNESS WHEREOF, I have hereunto set my hand this fourteenth day of June, in the year of our Lord two thousand seventeen, and of the Independence of the United States of America the two hundred and forty-first.

[FR Doc. 2017-12900

Filed 6-16-17; 11:15 am]

Billing code 3295-F7-P